DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Coordinating Council on Tuesday, August 13, 2002, at Washington Marriott in Washington DC. The meeting runs from 9 a.m. to 1 p.m.

The General Session includes the following items: (1) Welcome; (2) Introductions and Antitrust statement; (3) Minutes—approval of minutes from last meeting; (4) Approval of Program Plan Homeland Security Supplement and Advice Letter; (5) Approval of IVI Advice Letter; (6) Review Leadership Steering Committee Appointments; (7) Discussion of Areas of Responsibility (coverage)—Forums and Programs; (8) Review Two-Day Summit Agenda and Discussion of Logistics; (9) Discussion of Outcome Strategies: Special Interest Groups, Management of Projects, Member Communication, and Other Items; (10) Other Business; (11) Lunch (at Noon); (12) Adjourn.

ITS AMERICA provides a forum for national discussion and recommendations on ITS activities including programs, research needs, strategic planning, standards, international liaison, and priorities.

The charter for the utilization of ITS AMERICA establishes this organization as an advisory committee under the Federal Advisory Committee Act (FACA) 5 USC app. 2, when it provides advice or recommendations to DOT officials on ITS policies and programs. (56 FR 9400, March 6, 1991).

DATES: The Coordinating Council of ITS AMERICA will meet on Tuesday, August 13, 2002 from 9 a.m.-1 p.m.

ADDRESSES: Washington Marriott, 1221 22nd Street, NW., Washington DC 20037. Meeting Room TBA. Phone: (202) 872-1500. Fax: (202) 872-1424.

FOR FURTHER INFORMATION CONTACT: Materials associated with this meeting may be examined at the offices of ITS AMERICA, 400 Virginia Avenue SW., Suite 800, Washington, DC 20024. Persons needing further information or who request to speak at this meeting should contact Debbie M. Busch at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)

Issued on: July 31, 2002.
Jeffrey Paniati,
Acting Associate Director, Office of Operations, Federal Highway Administration, and Acting Director, ITS Joint Program Office, Department of Transportation.

[FR Doc. 02-19673 Filed 8-2-02; 8:45 am]

BILLING CODE 4910-22-P